DEPARTMENT OF JUSTICE

Notice of Lodging Proposed Consent Decree

In accordance with Departmental Policy, 28 CFR 50.7, notice is hereby given that a proposed Consent Decree in United States v. Century Homebuilders, LLC, No. 1:09-CV-22258, was lodged with the U.S. District Court for the Southern District of Florida on November 1, 2010.

The proposed Consent Decree concerns a First Amended Complaint filed by the United States of America against Century Homebuilders, LLC, formerly known as Century Builders Group, LLC; Century Partners Group, Ltd.; Century Homebuilders of South Florida, LLC; and Cesar E. Llano to obtain injunctive relief and civil penalties against the defendants for violating Department of the Army Permit Number 200106379 (IP-KBH) and section 301(a) of the Clean Water Act, 33 U.S.C. 1311(a). The proposed Consent Decree resolves these allegations by requiring the defendants to enhance wetlands, to purchase mitigation credits, and to pay a civil penalty.

The Department of Justice will accept written comments relating to this proposed Consent Decree for thirty (30) days from the date of publication of this Notice. Please address comments to Andrew J. Doyle, Trial Attorney, Environmental Defense Section, P.O. Box 23986, Washington, DC 20026-3986, and refer to United States v. Century Homebuilders, LLC, DJ # 90-5-1-1-18402.

The proposed Consent Decree may be examined at the Clerk's Office, U.S. District Court, 400 North Miami Avenue, Miami, Florida 33128, or electronically at http://www.justice.gov/enrd/Consent_Decrees.html.

Maureen M. Katz,
Assistant Section Chief, Environment & Natural Resources Division.

[FR Doc. 2010-28067 Filed 11-5-10; 8:45 am]

BILLING CODE P